DEPARTMENT OF COMMERCE

Submission for OMB Review; Comment Request

The Department of Commerce will submit to the Office of Management and Budget (OMB) for clearance the following proposal for collection of information under the provisions of the Paperwork Reduction Act (44 U.S.C. Chapter 35).

Agency: National Institute of Standards and Technology (NIST).

Title: Technology Innovation Program Application Requirements.

OMB Control Number: 0693-0050.

Form Number(s): NIST-1022.

Type of Request: Regular submission.

Burden Hours: 11,100.

Number of Respondents: 300.

Average Hours per Response: 37.

Needs and Uses: The Technology Innovation Program (TIP) is a competitive cost-sharing program designed to assist U.S. businesses and institutions of higher education or other organizations, such as national laboratories, governmental laboratories (not including NIST), and nonprofit research institutes, to support, promote, and accelerate innovation in the United States through high-risk, high-reward research in areas of critical national need. This request is for the information collection requirements associated with submission of proposals for TIP funding. The intent of collection is to meet statutory requirements for TIP, as well as compliance with 15 CFR Part 14.

Affected Public: Business or other for-profit organizations, not-for-profit institutions, and Federal Government.

Frequency: Annually.

Respondent's Obligation: Required to obtain or retain benefits.

OMB Desk Officer: Jasmeet Seehra, (202) 395-3123.

Copies of the above information collection proposal can be obtained by calling or writing Diana Hynek, Departmental Paperwork Clearance Officer, (202) 482-0266, Department of Commerce, Room 6625, 14th and Constitution Avenue, NW., Washington, DC 20230 (or via the Internet at dHynek@doc.gov).

Written comments and recommendations for the proposed information collection should be sent within 30 days of publication of this notice to Jasmeet Seehra, OMB Desk Officer, FAX number (202) 395-5167 or via the Internet at Jasmeet_K._Seehra@omb.eop.gov.

Dated: February 9, 2009.
Gwellnar Banks,
Management Analyst, Office of the Chief Information Officer.

[FR Doc. E9-3071 Filed 2-12-09; 8:45 am]

BILLING CODE 3510-13-P